DEPARTMENT OF ENERGY

Federal Energy Regulatory Commission

[Docket No. ER02-2001-000]

Electric Quarterly Reports; Notice of Electric Quarterly Reports Users Group Meeting

March 7, 2006.

On April 25, 2002, the Commission issued Order No. 2001,¹ a final rule which requires public utilities to file Electric Quarterly Reports. Order 2001-C, issued December 18, 2002, instructs all public utilities to file these reports using Electric Quarterly Report Submission Software. This notice announces a meeting for the EQR Users Group to be held Wednesday, March 29, 2006, at FERC headquarters, 888 First Street, NW., Washington, DC. The meeting will run from 10 a.m. to 4 p.m.

¹ Revised Public Utility Filing Requirements, Order No. 2001, 67 FR 31043, FERC Stats. & Regs. ¶ 31,127 (April 25, 2002); reh'g denied, Order No. 2001-A, 100 FERC ¶ 61,074, reconsideration and clarification denied, Order No. 2001-B, 100 FERC ¶ 61,342 (2002).

At the workshop, Commission staff and EQR users will review and update the technical compliance process and review clarifications and additions to the EQR Requirements Guide. A detailed agenda and other relevant documents will be provided at http://www.ferc.gov/docs-filing/eqr/groups-workshops.asp prior to the meeting.

All interested parties are invited to attend. For those unable to attend in person, limited access to the workshop will be available by teleconference. Those interested in participating are asked to register on the FERC Web site at https://www.ferc.gov/whats-new/registration/eqr-03-29-form.asp. There is no registration fee.

Interested parties wishing to file comments may do so under the above-captioned Docket Number. Those filings will be available for review at the Commission or may be viewed on the Commission's Web site at http://www.ferc.gov, using the “eLibrary” link. Enter the docket number excluding the last three digits in the docket number field to access the document. For assistance, contact FERC Online Support at FERCOnlineSupport@ferc.gov or via phone at (866) 208-3676 (toll-free). For TTY, contact (202) 502-8659.

For additional information, please contact Brenda Devine of FERC's Office of Market Oversight & Investigations at (202) 502-8522 or by e-mail at eqr@ferc.gov.

Magalie R. Salas,
Secretary.

[FR Doc. E6-4034 Filed 3-20-06; 8:45 am]

BILLING CODE 6717-01-P